Proclamation 9361 of October 30, 2015

National Family Caregivers Month, 2015

By the President of the United States of America

A Proclamation

Day in and day out, selfless and loving Americans provide care and support to family members and friends in need. They are parents, spouses, children, siblings, relatives, and neighbors who uphold their unwavering commitment to ensure the lives of their loved ones shine bright with health, safety, and dignity. During National Family Caregivers Month, we rededicate ourselves to making sure our selfless caregivers have the support they need to maintain their own well-being and that of those they love.

One of the best measures of a country is how it treats its older citizens and people living with disabilities, and my Administration is dedicated to lifting up their lives and ensuring those who care for them get the support and recognition they deserve. Earlier this year, older Americans and caregivers, as well as their advocates, came together at the White House Conference on Aging, which provided an opportunity to discuss ways to identify and advance actions to improve quality of life for our Nation's elderly. Through the Affordable Care Act, we are providing more options to help older Americans remain in their homes as they age, and the law is giving caregivers the peace of mind of having access to quality, affordable health insurance. Additionally, I will keep pushing to make paid family leave available for every American, regardless of where they work—because no one should have to sacrifice a paycheck to care for a loved one.

When our men and women in uniform come home with wounds of war—seen or unseen—it is our solemn responsibility to ensure they get the benefits and attentive care they have earned and deserve. Caregivers in every corner of our country uphold this sacred promise with incredible devotion to their loved ones, and my Administration is committed to supporting them. We have extended military caregiver leave to family members of eligible veterans dealing with serious illness or injury for up to 5 years after their service has ended, and we remain dedicated to providing greater flexibility for our military families and for the members of our Armed Forces as they return home and handle the transition to civilian life.

For centuries, we have been driven by the belief that we all have certain obligations to one another. Every day, caregivers across our country answer this call and lift up the lives of loved ones who need additional support. During National Family Caregivers Month, let us honor their contributions and pledge to continue working toward a future where all caregivers know the same support and understanding they show for those they look after.

NOW, THEREFORE, I, BARACK OBAMA, President of the United States of America, by virtue of the authority vested in me by the Constitution and the laws of the United States, do hereby proclaim November 2015 as National Family Caregivers Month. I encourage all Americans to pay tribute to those who provide for the health and well-being of their family members, friends, and neighbors.

IN WITNESS WHEREOF, I have hereunto set my hand this thirtieth day of October, in the year of our Lord two thousand fifteen, and of the Independence of the United States of America the two hundred and fortieth.

[FR Doc. 2015-28306

Filed 11-3-15; 11:15 am]

Billing code 3295-F6-P